DEPARTMENT OF COMMERCE

National Oceanic and Atmospheric Administration

[RIN 0648-XL85]

Supplemental Environmental Impact Statement for Replacement of NOAA National Marine Fisheries Service Southwest Fisheries Science Center in La Jolla, CA

AGENCY: National Marine Fisheries Service (NMFS), National Oceanic and Atmospheric Administration (NOAA), Commerce.

ACTION: Notice of intent to prepare a Supplemental Environmental Impact Statement (SEIS); request for comments.

SUMMARY: NOAA announces its intention to prepare an SEIS in accordance with the National Environmental Policy Act of 1969, the Council on Environmental Quality Regulations, and NOAA Administrative Order 216-6 Environmental Review Procedures for Implementing the National Environmental Policy Act. This SEIS is being prepared to reflect substantial changes in the proposed action that are relevant to environmental concerns. The proposed changes to be analyzed in the SEIS are related to the replacement of the facilities and were not previously analyzed in the Final EIS/Environmental Impact Report (EIR) dated April 2009. The University of California San Diego may also prepare an Addendum to the Final EIS/EIR in accordance with the California Environmental Quality Act (CEQA).

DATES: Written comments and input will be accepted on or before August 15, 2011.

ADDRESSES: Written comments should be sent to Robb Gries, Project Engineer, NOAA, Project Planning & Management—Western Region, 7600 Sand Point Way, NE., BIN C15700, Seattle, WA 98115; e-mail robb.gries@noaa.gov.

FOR FURTHER INFORMATION CONTACT: Mr. Robb Gries, NOAA Project Engineer, at the address provided above.

SUPPLEMENTARY INFORMATION: Since completion of the Final EIS/EIR, substantial changes are being made to the scope of actions originally proposed by NOAA on property currently occupied and managed by NOAA. The proposed changes involve demolition of the majority of the NOAA Southwest West Fisheries Science Center Building A and establishment of a geohazard stabilization system consisting of tie-backs to secure foundations for the remaining structure (Building D) and access areas. The tie-back system requires more substantial excavation to be installed within a geologically sensitive coastal bluff.

Consistent with 40 CFR 1502.9(c)(1)(i), this SEIS will focus on the environmental effects of the proposed changes and feasible alternatives including the no-action alternative, and analyze the potential effects to affected resources such as: Geological conditions, hydraulic processes, construction noise, traffic/pedestrian circulation, air emissions, and protected wildlife. While scoping meetings are not being held for the SEIS, NOAA is requesting written comments and input, including, but not limited to, technical information related to the proposed actions, information regarding potentially affected resources in the area, and community interests or concerns on the potential for environmental effects of the proposed action and alternatives. NOAA will also rely on prior scoping documents and comments received during preparation of the original FEIS/EIR. Additional public involvement opportunities associated with this SEIS will occur, including a public comment period on the Supplemental Draft EIS to be announced as a Notice of Availability in the Federal Register.

Dated: July 8, 2011.
William F. Broglie,
Chief Administrative Officer, National Oceanic and Atmospheric Administration.

[FR Doc. 2011-17764 Filed 7-13-11; 8:45 am]

BILLING CODE 3510-12-P